DEPARTMENT OF VETERANS AFFAIRS

Privacy Act of 1974; System of Records

AGENCY: Department of Veterans Affairs (VA).

ACTION: Notice of establishment of new system of records.

SUMMARY: The Privacy Act of 1974 (5 United States Code 552(e)(4)) requires that all agencies publish in the Federal Register a notice of the existence and character of their systems of records. Notice is hereby given that the Department of Veterans Affairs is establishing a new system of records entitled “Veterans Health Administration Leadership and Workforce Development—VA” (161VA10A2).

DATES: Comments on this new system of records must be received no later than March 24, 2010. If no public comment is received, the new system will become effective March 24, 2010.

ADDRESSES: Written comments may be submitted through http://www.Regulations.gov; by mail or hand-delivery to Director, Regulations Management (02Reg), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at http://www.Regulations.gov.

FOR FURTHER INFORMATION CONTACT: Diana Rogers, Department of Veterans Affairs, Veterans Health Administration High Performance Development Model (HPDM) Program Office, 55 North Robinson Avenue, Oklahoma City, Oklahoma 73102; telephone (405) 552-4336.

SUPPLEMENTARY INFORMATION:

I. Description of Proposed Systems of Records

Veterans Health Administration Leadership and Workforce Development (VHALWD) is a data repository that stores data gathered from the Canteen Service, Veterans Health Administration Central Office, Veterans Integrated Service Networks and facility coordinators.

II. Proposed Routine Use Disclosures of Data in the System

To the extent that records contained in the system include information protected by 38 U.S.C. 7332, i.e., medical treatment information related to drug abuse, alcoholism or alcohol abuse, sickle cell anemia or infection with the human immunodeficiency virus, that information cannot be disclosed under a routine use unless there is also specific statutory authority permitting disclosure.

We are proposing to establish the following Routine Use disclosures of information maintained in the system:

1. The record of an individual who is covered by a system of records may be disclosed to a Member of Congress, or a staff person acting for the Member, when the Member or staff person requests the record on behalf of and at the written request of the individual.

VA must be able to provide information about individuals to adequately respond to inquiries from Members of Congress at the request of constituents who have sought their assistance.

2. Disclosure may be made to the National Archives and Records Administration (NARA) and the General Services Administration (GSA) in records management inspections conducted under authority of Title 44, Chapter 29, of the United States Code (U.S.C.).

NARA and GSA are responsible for management of old records no longer actively used, but which may be appropriate for preservation, and for the physical maintenance of the Federal government's records. VA must be able to provide the records to NARA and GSA in order to determine the proper disposition of such records.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

VA must be able to provide information to DoJ in litigation where the United States or any of its components is involved or has an interest. A determination would be made in each instance that under the circumstances involved, the purpose is compatible with the purpose for which VA collected the information. This routine use is distinct from the authority to disclose records in response to a court order under subsection (b)(11) of the Privacy Act, 5 U.S.C. 552(b)(11), or any other provision of subsection (b), in accordance with the court's analysis in Doe v. DiGenova, 779 F.2d 74, 78-84 (DC Cir. 1985) and Doe v. Stephens, 851 F.2d 1457, 1465-67 (DC Cir. 1988).

4. Disclosure of relevant information may be made to individuals, organizations, private or public agencies, or other entities with whom VA has a contract or agreement or where there is a subcontract to perform such services as VA may deem practicable for the purposes of laws administered by VA, in order for the contractor or subcontractor to perform the services of the contract or agreement. This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

VA must be able to provide on its own initiative information that pertains to a violation of laws to law enforcement authorities in order for them to investigate and enforce those laws. Under 38 U.S.C. 5701(a) and (f), VA may only disclose the names and addresses of veterans and their dependents to Federal entities with law enforcement responsibilities. This is distinct from the authority to disclose records in response to a qualifying request from a law enforcement entity, as authorized by Privacy Act subsection 5 U.S.C. 552a(b)(7).

6. Disclosure to other Federal agencies may be made to assist such agencies in preventing and detecting possible fraud or abuse by individuals in their operations and programs.

This routine use permits disclosures by the Department to report a suspected incident of identity theft and provide information or documentation related to or in support of the reported incident.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

III. Compatibility of the Proposed Routine Uses

The Privacy Act permits VA to disclose information about individuals without their consent for a routine use when the information will be used for a purpose that is compatible with the purpose for which we collected the information. In all of the routine use disclosures described above, the recipient of the information will use the information in connection with a matter relating to one of VA's programs, will use the information to provide a benefit to VA, or disclosure is required by law.

The notice of intent to publish and an advance copy of the system notice have been sent to the appropriate Congressional committees and to the Director of the Office of Management and Budget (OMB) as required by 5 U.S.C. 552a(r) (Privacy Act) and guidelines issued by OMB (65 FR 77677), December 12, 2000.

Approved: January 26, 2010.
John R. Gingrich,
Chief of Staff, Department of Veterans Affairs.

161VA10A2

SYSTEM NAME:

Veterans Health Administration Leadership and Workforce Development—VA.

SYSTEM LOCATION:

Records are maintained at the North Little Rock Campus, 2200 Fort Roots Drive, Little Rock, Arkansas 72114.

Categories of individuals covered by the system:

The records include information from and concerning Veterans Affairs Central Office, Veterans Health Administration, Veterans Health Administration Canteen, Veterans Health Administration Central Office, Veterans Benefits Administration and National Cemetery Administration personnel.

Categories of records in the system:

The records may include information related to: people, work groups, workforce, funding, leadership classes, personal development plans, supervisory levels, mentor and coach roles and certifications, High Performance Development Model, senior executive information and recruitment, human resources automation, positions, organizations, and locations of Veterans Health Administration top management positions. Central Office and Veterans Integrated Systems Network managers and staff, facility directors, associate directors, chiefs of staff, and other senior clinical and administrative field managers' positions are included. The Veterans Health Administration Executive Management Program consists of the functions that fall under the purview of the Veterans Health Administration Executive Resources Board and the Veterans Health Administration Performance Review Board. Their functions include executive development, recruitment and placement; organizational analysis; succession planning; and performance assessment and recognition. The method used to collect this information is a proprietary system using relational technology. Information from this database is joined and expanded with information from the Veterans Health Administration executive program processes i.e., organization, vacancies, recruitment efforts, performance, etc. This combination of information is used in the administration of the Executive Resources Board and Performance Review Board functions. The sharing and development of information involving executives and organizations provides an effective means for accomplishing the Executive Resources Board and Performance Review Board objectives.

The following modules are in Veterans Health Administration Leadership and Workforce Development: Veterans Health Administration Leadership and Workforce Development Home, Performance, Workgroups, Veterans Affairs National Database for Interns, Student Educational Experience Program, High Performance Development Model Funding, Executive Career Field Career Development Plan On-Line Application, Technical Career Field Preceptor On-Line Application, Career Development Plans, Workforce Planning, Class and Program Management (includes: Graduate Healthcare Administration Training Program, School at Work, Leadership Effectiveness Accountability Development, Technical Career Field, Executive Career Field Candidate Development Program, Senior Executive Service Candidate Development programs, Ethics, Professional Development Plans, Supervisory Training, Open Season (Veterans Health Administration Executive Recruitment), WebHR (Web-based Human Resource module), and Mentor Coach Certification). Veterans Health Administration Leadership and Workforce Development data contains:

1. Employee data.

• Employee legal name

• Social security number

• Veteran's preference

• Vietnam Era veteran

• Retirement plan

• Tenure

• Universal personal identification number

• Universal user name

• Sex

• Supervisory status

• Supervisory training status

• Work contact information

• Facility

• Network Identification

• Home contact information

• Home of record contact information

• Assigned facility/organization

• Pay plan

• Pay grade

• Step

• Retirement eligibility

• Union membership

• Leave balances

• Program

• Credentials

• Grievance

• Disciplinary actions

• Third-party and other employee actions

2. Employee position data.

• Veterans Health Administration Leadership and Workforce Development position titles

• High Performance Development Management ratings

• Position requestor contact data

• Legal authority

• Competitive Level

• Fair Labor Standards Act category

• Drug testing position indicator

• Citizenship/Residency status

• English language proficiency

• Announcement status

• Vacancy status

• Date job opened

• Days to open

• Days to issue certificate

• Date job closed

• Job type/Occupation series/Grade

• Pay plan

• Work schedule

• Appropriation code

• Cost center

• Date candidates referred

• Date nomination received

• Date to Executive Resources Board

• Date credentials complete

• Date recruitment received

• Position start and end dates

• Appointment start and end dates

• Position location

○ Location complexity rating

• Position reporting official

• Position status

○ Supervisory

○ Bargaining unit

○ Senior executive pay band

• Level of supervisory responsibility

• Date of offer

• Position status change

• Reason for change

• Position authorization data

• Announcement tracking data (location and dates of actions)

• Area of consideration

• Number of applicants (internal, external, not qualified)

• Number interviewed

• Applicant outcome and notification

• Selecting official

• Re-announcement

• Position cancelations

• Date fingerprinted

• Background check data

• Physician Comp Panel and Standards Board data

3. Bonus data.

• Executive/Senior Executive Service

○ Pay band and band max pay

○ Proposed pay adjustment

○ Proposed rating

○ Approved rating

○ Approved bonus pay

○ Actual pay

○ Rank award

• Type

• Previous year nomination and award amount

• Current year nomination

○ Bonus pool total

○ Local bonus funding amount

○ Form Uploads

• Appraisal

• High level reviews

• Comments

• Bonus justification

• Rank award nominations

• Non-Executive (each Fiscal Year)

○ Rating

○ Award amount

○ Pay adjustment (Yes/No)

4. Workgroups & Organizations.

• Just under 100 codes—not job occupation series codes—code developed for the All Employee Survey

• Agency selection

○ Veterans Affairs

○ Veterans Health Administration

○ National Cemetery

• Agency networks

• Agency organizations

• Formal and informal name

• Organization type

• Network

• Physical location

• Duty Code

• Complexity Level

• Station number

• Workgroup supervisory designations

• Workgroup coordinator assignment

• Workgroup coordinator contact info

5. Development Plans.

• Uploaded text document

○ Document filled from template

○ Free text employee documentation

6. Funding.

• Program funding

• Program funds available

• Reimbursement type

• Appropriation code

• Fiscal contact name and phone

• Amount per employee

• Fund control point

• Requested average salary

• Approved funds

• Withdrawn funds

• Date funding sent

• Approval funding comments

• Approved Full Time Equivalents dollars

• Cost center

7. Career Programs.

• Program Eligibility criteria

• Program waiver

• Program employee applied

• Class title

• Program/Class year

• School name and state

• Major

• Anticipated graduation date

• Application status

• Employment history

• Education history

• Competency data (application questions and answers)

• Applicant endorsers

• Class administrator assignments

• Employee list per class

• Program completion status

• Requested number of student hires

• Requested funding for student salary

• Student work schedule

• Number Full Time Equivalents requested

8. Workforce Planning—Annual Corporate Office & Veterans Integrated Service Networks.

• Planning team members

• Strategic direction

• Historical analysis

○ Employee reason to leave

○ Equal employment opportunity category of employee

• Projected workforce-rational and issues

• Recruitment & Retention programs used

• Leadership programs/activities and participation

• Workplace morale assessment

• Work plan comments

9. Mentor Information.

• Mentor status

• Core training

○ Courses

○ Date and location

○ Training instructors

○ Training history

• Certification level

• Practical experience hours and event

10. Perseus Survey Software.

• Employee legal name

• Last 4 social security number

• Veterans Integrated Service Networks

• Facility/Office

• Work Setting (Section/Division/Campus/Product Line/Service/Department)

• Occupation

• Identification of supervisory chain of command

• Identification of peer and subordinate relationships

• Demographic information

○ Gender

○ Age

○ Race/National Origin

○ Tenure

○ Grade Level

• Data Input in Response to survey questions (questionnaires which cover the following types of topics as an example)

○ Assessment Inventories, such as 360 Assessments, WES/MBI Instruments

○ Customer Satisfaction surveys/evaluations (High Performance Development Model, Health Care Retention and Recruitment Office, National Center for Organizational Development, Delegated Examining Units, Workforce Management and Consulting Office)

○ Organizational assessment instruments such as Civility, Respect and Engagement in the Workplace Evaluation, Veterans Administration Nursing Outcomes Database Registered Nursing survey, Education Inventories, Center for Faith Based and Community Initiatives Communications survey, Aggressive Behavior Prevention Survey, Integrated Ethics Workbook, Methicillin Resistant Staphylococcus Aureus, Office of Personal Management All Employee Survey, Exit/Entrance Surveys, Organizational Climate Assessment Program surveys, surveys for specific facilities/offices

○ Program Assessments/Proficiency surveys such as Technical Career Field Return on Investment survey, Supervisory Training Pre/Post Test surveys, Human Resource Proficiency Tracking survey

○ Professional Assessment surveys such as Executive Career Field Candidate/Mentor questionnaires, Acting Director/Senior Executive Service applicant assessments

Authority for maintenance of the system:

Title 38, United States Code, section 501a.

PURPOSE(S):

The records and information may be used for the management of Veterans Health Administration executive and senior executive employees and employees in national programs for performance appraisal and bonus award entries, bonus and appraisal documentation storage, Rank Award and type given, supervisory training status and employee position management. Reports for workforce succession planning and analysis, Veterans Health Administration supervisory training status and course grade, bonus award dollar amounts per executive and non-executive employee used by Performance Review Boards. Human resource position creation, and fill actions, employee action and assignment tracking data is collected for business processing and analysis.

Workgroups are developed for survey use and data collection. Data that is entered and stored can be extracted from the database and used for other applications.

Routine uses of records maintained in the system, including categories of users and the purposes of such uses:

To the extent that records contained in the system include information protected by 45 Code of Federal Regulations. Parts 160 and 164, such as individually identifiable health information, and 38 United States Code 7332, such as medical treatment information related to drug abuse, alcoholism or alcohol abuse, sickle cell anemia or infection with the human immunodeficiency virus, that information cannot be disclosed under a routine use unless there is also specific statutory authority in 38 United States Code 7332 and regulatory authority in 45 Code of Federal Regulations Parts 160 and 164 permitting disclosure.

1. The record of an individual who is covered by a system of records may be disclosed to a Member of Congress, or a staff person acting for the Member, when the Member or staff person requests the record on behalf of and at the written request of the individual.

2. Disclosure may be made to the National Archives and Records Administration (NARA) and the General Services Administration (GSA) in records management inspections conducted under authority of Title 44, Chapter 29, of the United States Code (U.S.C.).

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

Policies and practices for storing, retrieving, accessing, retaining, and disposing of records in the system:

Storage:

Records are maintained on the HPDM1 Server and backup server in Little Rock, Arkansas.

Retrievability:

Records are retrieved by name, social security number, position number or other assigned identifiers of the individuals on whom they are maintained.

Safeguards:

1. Access to Veterans Affairs working and storage areas is restricted to Veterans Affairs employees on a “need-to-know” basis; strict control measures are enforced to ensure that disclosure to these individuals is also based on this same principle. Generally, Veterans Affairs file areas are locked after normal duty hours and the facilities are protected from outside access by the Federal Protective Service or other security personnel.

2. Access to computer rooms at health care facilities is generally limited by appropriate locking devices and restricted to authorized Veterans Affairs employees and vendor personnel. Automatic Data Processing peripheral devices are placed in secure areas. Access to information stored on automated storage media at other Veterans Affairs locations is controlled by individually unique passwords/codes. Employees are limited to only that information in the file which is needed in the performance of their official duties.

3. Access to the Little Rock Campus Servers is restricted to Center employees, Federal Protective Service and other security personnel. Access to computer rooms is restricted to authorized operational personnel through electronic scanning and locking devices. All other persons gaining access to computer rooms are escorted after identity verification and log entry to track person, date, time in, and time out of the room. Information stored in the computer may be accessed by authorized Veterans Affairs employees at remote locations including Veterans Affairs health care facilities, Information Systems Centers, Veterans Affairs Central Office, and Veteran Integrated Service Networks. Access is controlled by secure individually unique system authentication.

Retention and disposal:

Paper records and information maintained and disposed of in accordance with records disposition authority approved by the Archivist of the United States.

System manager(s) and address:

Official responsible for policies and procedures; Office of Workforce Management & Consulting Office (10A2), Department of Veterans Affairs, 810 Vermont Avenue, NW., Washington, DC 20420. Officials maintaining the system; Diana Rogers of the High Performance Development Model National Program Office located at 55 North Robinson Avenue, Suite 1033, Oklahoma City, OK 73102.

Notification procedure:

Individuals who wish to determine whether this system of records contains information about them should contact the Veterans Affairs facility location at which they are or were employed. Inquiries should include the person's full name, social security number, dates of employment, date(s) of contact, and return address.

Record access procedure:

Individuals seeking information regarding access to and contesting of records in this system may write, call or visit the Veterans Affairs facility location where they are or were employed or made contact.

Contesting record procedures:

(See Record Access Procedures above.)

Record source categories:

Information in this system of records is provided by Veterans Administration's employees associated to Veterans Affairs medical centers, Corporate Offices, National Cemetery Administration, Canteen Service and Veterans Health Administration corporate offices, Veterans Integrated Service Network and facilities.

[FR Doc. 2010-3298 Filed 2-19-10; 8:45 am]

BILLING CODE 8320-01-P